DEPARTMENT OF TRANSPORTATION

National Highway Traffic Safety Administration

[Docket No. NHTSA 2005-21269; Notice 2]

The Goodyear Tire & Rubber Company, Grant of Petition for Decision of Inconsequential Noncompliance

The Goodyear Tire & Rubber Company (Goodyear) has determined that certain tires it manufactured in 2005 do not comply with S4.3.4(b) of Federal Motor Vehicle Safety Standard (FMVSS) No. 109, “New pneumatic tires.” Pursuant to 49 U.S.C. 30118(d) and 30120(h), Goodyear has petitioned for a determination that this noncompliance is inconsequential to motor vehicle safety and has filed an appropriate report pursuant to 49 CFR part 573, “Defect and Noncompliance Reports.” Notice of receipt of a petition was published, with a 30-day comment period, on May 31, 2005, in the Federal Register (70 FR 31007). NHTSA received one comment.

Affected are a total of approximately 4,992 Kelly Signature HPT and Essenza B210 Type 2 tires produced from February 1, 2005 to March 31, 2005. S4.3.4(b) of FMVSS No. 109 requires that “[e]ach marking of the tire's maximum load rating * * * in kilograms shall be followed in parenthesis by the equivalent load rating in pounds * * *.” The noncompliant tires have the correct maximum load rating in kilograms but the actual stamping for the maximum load in pounds is 2839 pounds, while the correct stamping should be 2833 pounds.

Goodyear believes that the noncompliance is inconsequential to motor vehicle safety and that no corrective action is warranted. Goodyear explains that the cause of the noncompliance was the use of a different conversion factor than that used by the Tire and Rim Association. Goodyear states that the noncompliance has no effect on the performance of the tires on a motor vehicle or on motor vehicle safety. Goodyear says that the tires meet or exceed all other tire labeling requirements and all minimum performance requirements of FMVSS No. 109.

The agency agrees with Goodyear's statement that the mismarking does not present a serious safety concern. The agency believes that the true measure of inconsequentiality to motor vehicle safety in this case is that there is no effect of the noncompliance on the operational safety of vehicles on which these tires are mounted. In the agency's judgment, the incorrect labeling will have an inconsequential effect on motor vehicle safety because of the de minimus discrepancy in maximum load rating.

In addition, the tires are certified to meet all the performance requirements of FMVSS No. 109. All other informational markings as required by FMVSS No. 109 are present. Goodyear has also corrected the problem.

One comment favoring denial was received from a private individual. The issue to be considered in determining whether to grant this petition is the effect of the noncompliance on motor vehicle safety. The comment does not address this issue, and therefore has no bearing on NHTSA's determination.

In consideration of the foregoing, NHTSA has decided that the petitioner has met its burden of persuasion that the noncompliance described is inconsequential to motor vehicle safety. Accordingly, Goodyear's petition is granted and the petitioner is exempted from the obligation of providing notification of, and a remedy for, the noncompliance.

Authority: 49 U.S.C. 30118, 30120; delegations of authority at CFR 1.50 and 501.8.

Issued on: July 8, 2005.
Ronald L. Medford,
Senior Associate Administrator for Vehicle Safety.

[FR Doc. 05-14032 Filed 7-15-05; 8:45 am]

BILLING CODE 4910-59-P